DEPARTMENT OF HOUSING AND URBAN DEVELOPMENT

[Docket No. FR-5455-N-01]

Notice of Intent To Prepare a Draft Environmental Impact Statement for the West Coast Recycling Group Project in West Sacramento, Yolo County, CA

AGENCY: Office of the Assistant Secretary for Community Planning and Development, HUD.

ACTION: Notice.

SUMMARY: HUD gives notice to the public, agencies, and Indian tribes that the City of West Sacramento, CA, intends to prepare an Environmental Impact Statement/Environmental Impact Report (EIS/EIR) for the development of the West Coast Recycling Group project located at the Port of West Sacramento (Port) in West Sacramento, Yolo County, CA. The City of West Sacramento, acting as the lead agency, will prepare the EIS/EIR acting under its authority as the responsible entity for compliance with the National Environmental Policy Act (NEPA) in accordance with 42 U.S.C. 5304(g) and HUD regulations at 24 CFR 58.4, and under its authority as lead agency in accordance with the California Environmental Quality Act (CEQA). The EIS/EIR will be a joint document under NEPA and CEQA. The EIS will satisfy the requirements of NEPA and HUD regulations at 24 CFR part 58. The EIR will satisfy requirements of the CEQA (Public Resources Code 21000 et seq.) and State CEQA Guidelines (14 California Code of Regulations 15000 et seq.), which require that all State and local government agencies consider the environmental consequences of projects over which they have discretionary authority before acting on those projects. The proposed action is subject to compliance with NEPA because Federal Community Development Block Grant (i.e., CDBG) funds would be used for the design and construction of a new main entrance to the Port. This notice is given in accordance with the Council on Environmental Quality regulations at 40 CFR parts 1500-1508. All interested Federal, State, and local agencies, Indian tribes, groups, and the public are invited to comment on the scope of the EIS. If you are an agency with jurisdiction by law over natural or other public resources affected by the project, the City of West Sacramento needs to know what environmental information germane to your statutory responsibilities should be included in the EIS/EIR.

ADDRESSES: Comments relating to the scope of the EIS are requested and will be accepted by the contact person listed in the FOR FURTHER INFORMATION CONTACT section for up to December 2, 2010. Any person or agency interested in receiving a notice and wishing to make comment on the draft EIS should contact the person listed below.

FOR FURTHER INFORMATION CONTACT: David Tilley, Senior Planner, Community Development Department, City of West Sacramento, 1110 West Capitol Avenue, 2nd Floor, West Sacramento, CA 95691; telephone number 916-617-4645, Fax Number: 916-371-0845. Mr. Tilley may also be contacted by e-mail at: davidt@cityofwestsacramento.org.

Public Meetings: A public scoping meeting will be held for this EIS/EIR. The public scoping meeting will be held no less than 15 days after the publication of this notice in the Federal Register. The scoping meeting will provide an opportunity for the public to learn more about the project and provide input to the environmental process. Written comments and testimony concerning the scope of the EIS/EIR will be accepted at this meeting. The meeting will be preceded by a notice of public hearing which will be published in the local news media at least 15 days before the meeting date.

SUPPLEMENTARY INFORMATION:

Description of the Proposed Action

The West Coast Recycling Group (WCRG) proposes to develop approximately 15 acres at the Port of West Sacramento (Port) in the city of West Sacramento to construct and operate a scrap metal shredding and recycling facility. The project site is on formerly used industrial land at 3125 Industrial Boulevard in Yolo County, California. The Port is located approximately 0.5 mile south of U.S. Highway 50 and 1.25 miles west of Interstate 5, and is bounded by Industrial Boulevard to the north and east, the Sacramento Deep Water Ship Channel (SDWSC) and turning basin to the south, and Lake Washington to the west. The project site is located in the northwestern portion of the Port facility.

Much of the approximately 15-acre project site was previously used as a log export yard. A portion of the site is currently being used as a concrete recycling facility. The remainder of the property is currently composed of vacant industrial land and a heavy equipment storage area. Predominant land uses in the vicinity of the project site are industrial. Land uses adjacent to and surrounding the Port include industrial facilities, warehouses, a firehouse, office buildings, and other commercial land uses. Residential land uses are located south and east of the Port.

The project would require a conditional use permit from the City of West Sacramento and a ground lease from the Port of West Sacramento.

Operations at the proposed facility would include scrap metal sorting and scrap metal shredding, material separation and processing to extract usable material, and stabilization of nonmetallic material to make it useful as sanitary day cover in landfills. The vehicles that are to be shredded on-site will already have been dismantled by other companies to remove vehicle fluids, tires, batteries, and reusable parts. The facility would be a state-of-the-art design, with modern emission controls, and an industrial storm water system to capture and reuse rainwater.

A portion of the metal material delivered for shredding at the facility would include retired automobiles or end-of-life vehicles. However, other sources of scrap metal would also be shredded such as appliances, agricultural equipment, and industrial scrap metal. The scrap metal may be bailed or placed into bins for transport. The project includes design and construction of a new main Port entrance from Industrial Boulevard. The new entrance would be located west of the current main entrance at Harbor Boulevard and approximately 350 feet east of the Beacon Drive/Industrial Boulevard intersection (centerline to centerline).

The proposed metal recycling facility would process automobiles and scrap metals through the shredder at an average hourly throughput of 170 gross tons, with a maximum of 220 gross tons per hour. The maximum daily shredder throughput is estimated to be 1,760 gross tons per day. The monthly throughput is estimated to be 25,000 gross tons.

Alternatives to the Proposed Action

Consistent with the requirements of the State CEQA Guidelines § 15126.6, and § 1502.14 of the Council on Environmental Quality Regulations implementing NEPA, the EIR/EIS will examine a range of reasonable alternatives to the proposed project that are potentially feasible. The alternatives must feasibly attain most of the objectives of the proposed project while also avoiding or substantially lessening at least one of the significant environmental effects of the proposed project. As required by NEPA, the alternatives will be evaluated at the same level of detail as the proposed project. As a result of the scoping and agency consultation efforts conducted to date, the alternatives currently proposed for evaluation in the EIR/EIS include:

1. No Project/Action Alternative. This alternative, required by both CEQA and NEPA, would evaluate the environmental impacts if the proposed project were not constructed and existing operations on the project site were to continue.

2. Proposed Project. This alternative would evaluate the proposed project as described in the Project Description.

3. One or more other alternatives (to be identified). Alternative(s) will be based on input received during the scoping process and feasible project options that could minimize or avoid significant environmental effects. These alternatives may possibly include a reduced project alternative and/or an alternative site, and will be identified during the scoping process.

One of the purposes of the NOI is to solicit input from the public, agencies, Indian tribes, and interested organizations regarding potential alternatives to the proposed project. Therefore, the City welcomes comments during the public scoping process regarding these alternatives or suggestions for other alternatives to be examined in the EIR/EIS.

Probable Environmental Effects

The following subject areas will be analyzed in the combined EIS/EIR for probable environmental effects: Aesthetics (including light and glare); air quality; biological resources; climate change/greenhouse gases; cultural resources; geology and soils; paleontology; hazards and hazardous materials; hydrology and water quality; land use; noise and vibration; population, employment, and housing; public services; recreation; transportation and traffic; utilities and service systems; environmental justice; cumulative impacts; and growth-inducing impacts.

Lead Agency

For purposes of complying with NEPA and CEQA, the City of West Sacramento is the Lead Agency and as the Responsible Entity under 24 CFR 58.2(a)(7) assumes the responsibility for environmental review, decisionmaking, and action that would otherwise apply to HUD under NEPA. Section 104(g) of Title I of the Housing and Community Development Act (42 U.S.C. 5304[g]) authorizes recipients of HUD assistance to assume NEPA responsibilities in projects involving CDBG for infrastructure development.

Questions may be directed to the individual named in this notice under the heading FOR FURTHER INFORMATION CONTACT.

Dated: October 25, 2010.
Mercedes M. Márquez,
Assistant Secretary for Community Planning and Development.

[FR Doc. 2010-27680 Filed 11-1-10; 8:45 am]

BILLING CODE 4210-67-P